DEPARTMENT OF ENERGY

Notice of Intent To Prepare an Environmental Impact Statement and To Conduct a Public Scoping Meeting, and Notice of Floodplain and Wetlands Involvement To Support Construction and Startup of the Mississippi Gasification, LLC, Industrial Gasification Facility in Moss Point, MS

AGENCY: Department of Energy, Loan Guarantee Program.

ACTION: Notice of Intent to Prepare an Environmental Impact Statement and Conduct a Public Scoping Meeting, and Notice of Proposed Floodplain and Wetlands Involvement.

SUMMARY: The U.S. Department of Energy (DOE) announces its intent to prepare an environmental impact statement (EIS) pursuant to the National Environmental Policy Act (NEPA) of 1969, as amended, the Council on Environmental Quality (CEQ) NEPA regulations, and the DOE NEPA implementing procedures to assess the potential environmental impacts for its proposed actions of issuing a Federal loan guarantee to Mississippi Gasification, LLC, (MG) and providing co-funding in a Cooperative Agreement with Leucadia Energy, LLC (Leucadia) and Denbury Onshore, LLC (Denbury) (DOE/EIS-0428). In addition, the U.S. Army Corps of Engineers and the U.S. Coast Guard will be cooperating agencies in the preparation of the EIS.

MG, a wholly-owned subsidiary of Leucadia National Corporation, submitted an application to DOE under the Federal loan guarantee program pursuant to the Energy Policy Act of 2005 (EPAct 2005) to support construction and startup of the MG Industrial Gasification Facility (the Facility) in Moss Point, Mississippi. Leucadia and Denbury submitted an application to DOE for a cost-shared Cooperative Agreement pursuant to the American Recovery and Reinvestment Act of 2009 (ARRA 2009) and Section 703 of the Energy Independence and Security Act of 2007 for a two-phase project to support carbon dioxide (CO2) capture at the Facility and subsequent enhanced oil recovery (EOR) sequestration. The EIS would also help DOE decide whether to fund the Leucadia-Denbury application.

The Facility would be designed to produce upwards of 120 million standard cubic feet per day (MMSCFD) of pipeline-quality substitute natural gas (SNG) from approximately 7,000 tons per day of petroleum coke (petcoke) using gasification technology, coupled to acid gas recovery, and methanation. Marketable byproducts would include sulfuric acid, CO2, argon, and a small amount of electric power. MG plans to capture nearly 90% of the CO2 produced and sell it to Denbury under a long-term contract for use in EOR. The EIS will evaluate the potential impacts of DOE issuing MG a Federal loan guarantee for the proposed project, the funding of a DOE Cooperative Agreement with Leucadia and Denbury, and the range of reasonable alternatives. The purpose of this Notice of Intent is to inform the public about the DOE proposed actions, invite public participation in the EIS process, announce plans for a public scoping meeting to solicit public comments for consideration in establishing the scope and content of the EIS, and provide notice of the intent to prepare a floodplain and wetland assessment.

DATES: To ensure that all of the issues related to this proposal are addressed, DOE invites comments on the proposed scope and content of the EIS from all interested parties. Comments must be postmarked, or e-mailed by December 14, 2009 to ensure consideration. DOE will consider late comments to the extent practicable. In addition to receiving written comments (see ADDRESSES below), DOE will conduct a public scoping meeting at which government agencies, private-sector organizations, and the general public are invited to provide comments or suggestions regarding the alternatives and potential impacts to be considered in the EIS. Further details about the public scoping meeting will be announced through local-area media and on the DOE Loan Guarantee Program Office Web site (http://www.lgprogram.energy.gov/NEPA-2.html) at least 15 days prior to the meeting. Advance requests to speak at the public scoping meeting may be sent to Dr. Alistair Leslie at the address indicated below prior to the meeting. Requests to speak may also be made at the time of registration for the meeting. However, persons who submitted advance requests to speak will be given priority if time should become limited during the meeting.

ADDRESSES: Written comments on the proposed scope of the EIS and requests to speak at the public scoping meeting should be addressed to: Dr. Alistair Leslie, Loan Guarantee Program Office (CF-1.3), U.S. Department of Energy, 1000 Independence Avenue, SW., Washington, DC 20585. Electronic submission of comments is encouraged due to processing time required for regular mail. Comments can be submitted electronically by e-mail to: MG-EIS@hq.doe.gov. All comments should reference Project No. DOE/EIS-0428.

FOR FURTHER INFORMATION CONTACT: To obtain additional information about the MG project or this EIS, the public scoping meeting, or to receive a copy of the draft EIS when it is issued, contact Dr. Alistair Leslie by telephone: 202-287-5620; toll free number: 800-832-0885 ext. 75620 or e-mail: alistair.leslie@hq.doe.gov. For general information on the DOE NEPA process, contact Ms. Carol M. Borgstrom, Director, Office of NEPA Policy and Compliance (GC-54), U.S. Department of Energy, 1000 Independence Avenue, SW., Washington, DC 20585; telephone: 202-586-4600; facsimile: 202-586-7031; e-mail: askNEPA@hq.doe.gov or leave a toll-free message at 800-472-2756.

SUPPLEMENTARY INFORMATION:

Background

EPAct 2005 established a Federal loan guarantee program for eligible energy projects that employ innovative technologies. Title XVII of EPAct 2005 authorizes the Secretary of Energy to make loan guarantees for various types of projects, including those that “avoid, reduce, or sequester air pollutants or anthropogenic emissions of greenhouse gases; and employ new or significantly improved technologies as compared to commercial technologies in service in the United States at the time the guarantee is issued.” A principal goal of the loan guarantee program is to encourage commercial use in the United States of new or significantly improved energy-related technologies. DOE believes that accelerated commercial use of these new or improved technologies will help sustain economic growth, yield environmental benefits, and produce a more stable and secure energy supply. Pursuant to the provisions of Titles XV and XVI of the ARRA 2009 and Section 703 of the Energy Independence and Security Act of 2007, DOE has competitively solicited applications for a requirement titled: “Carbon Capture and Sequestration from Industrial Sources and Innovative Concepts for Beneficial CO2 Use.” One of the objectives of this solicitation is to demonstrate advanced technologies that capture and sequester CO2 emissions from industrial sources into underground formations.

Purpose and Need for Agency Action

MG submitted a Part I application to DOE for a loan guarantee on December 18, 2008, and submitted a Part II application on March 23, 2009, to support construction and startup of the Facility. Leucadia and Denbury jointly submitted an application to DOE on August 6, 2009, for a two-phase project for compression power supply studies at the Facility; a measurement, monitoring, and validation study (MMV) for the utilization of recovered CO2 in EOR; compression and metering equipment at the Facility; and a 110-mile CO2 pipeline to be funded, in part, with funds appropriated by ARRA 2009. The purpose and need for agency action is to comply with DOE's mandates under EPAct 2005 and ARRA 2009 by selecting eligible projects that meet the goals of these Acts. DOE is using the NEPA process to assist in determining whether to issue MG a loan guarantee to support the proposed project and whether to provide funding for a Cooperative Agreement with Leucadia and Denbury to support the work they proposed.

Proposed Action

The DOE proposed action is to issue a loan guarantee to MG to support construction and startup of the MG Facility in Moss Point, MS, and to provide funding to Leucadia and Denbury to partially support a two-phase project for compression power supply and MMV studies, compression and metering equipment at the Facility, and construction of a 110-mile CO2 pipeline.

As proposed the Facility would produce upwards of 120 MMSCFD of SNG from approximately 7,000 tons per day of petcoke using gasification technology, coupled with acid gas recovery, and methanation. The SNG would be the primary product and would be delivered to one or more nearby natural gas pipelines. Marketable byproducts would include sulfuric acid, CO2, argon, and a small amount of electric power. MG plans to capture nearly 90% of the CO2 produced and sell it to Denbury under a long-term contract for use in EOR. Leucadia and Denbury plan to undertake compression power supply studies at the Facility, install compression and metering equipment at the Facility, construct a CO2 pipeline from the Facility to an existing Denbury pipeline 110 miles to the north that already distributes CO2 for use in EOR, and undertake MMV for the utilization of the recovered CO2 in EOR. MMV for injection of at least 1 million tons of CO2 would be conducted at Denbury's EOR projects at the Heidelberg, Soso and/or the Eucutta oil fields in Mississippi and in the Citronelle oil field in Alabama.

Approximately 119 tons per day of slag—the non-hazardous vitrified (glassy) solid product of gasification—would be shipped off-site for sale or disposed of as a non-hazardous waste. Up to 12 million gallons of water per day would be supplied from the Escatawpa River supplemented by water from the Pascagoula River, well water, and treated water near the site. Operation, maintenance, and general management of the Facility are estimated to require 177 full-time employees.

The Facility would utilize approximately 115 acres of the 205-acre site at Moss Point, known as the Moss Point Industrial Technology Complex. The site is in southeastern Mississippi along the Gulf of Mexico, and is generally bounded by the Escatawpa River to the north, the Pascagoula River to the east, Grierson Street to the south, and an abandoned rail right-of-way to the west. The site has a designated industrial use, was previously the location of a paper mill, and has undergone remediation for past site contamination. Part of the proposed site at Moss Point is within a 100-year floodplain and other parts are within a 500-year floodplain. There are also wetlands on the site. Therefore, DOE will include in the EIS a floodplain and wetland assessment prepared in accordance with the DOE Regulations for Compliance with Floodplain and Wetland Environmental Review Requirements (10 CFR part 1022).

The EIS will analyze supporting infrastructure and facilities, including rail interconnections with an extended rail spur and unloading facility; existing local roads and regional highways; an upgraded barge dock and unloading facility on the Escatawpa River; interconnection to an onsite 115 kilovolt transmission line or a 230 kilovolt transmission line within 2 miles; interconnection to one or more nearby natural gas pipelines; and an existing CO2 pipeline network 110 miles to the north to which an interconnecting pipeline from the Facility fence line would be constructed.

Alternatives

In determining the range of reasonable alternatives to be considered in the EIS for the Facility, DOE identified the reasonable alternatives that would satisfy the underlying purpose and need for agency action. DOE currently plans to analyze potential impacts of the projects as proposed by MG and by Leucadia and Denbury, and the no-action alternative. To the extent appropriate, DOE will also analyze design options available to MG and to Leucadia and Denbury, within the scope of the proposed actions (such as disposing slag and sulfur, transporting petcoke, and alternative pipeline corridors) and mitigation measures.

Under the no-action alternative, DOE would not issue MG a loan guarantee and the project would not be constructed as part of the DOE loan guarantee program. This option would not contribute to the Federal loan guarantee program goals to make loan guarantees for energy projects that “avoid, reduce, or sequester air pollutants or anthropogenic emissions of greenhouse gases; and employ new or significantly improved technologies.” In addition DOE would not provide partial funding to Leucadia and Denbury, and the demonstration of advanced technologies that capture and sequester CO2 emissions from industrial sources into underground formations would not be advanced.

Preliminary Identification of Environmental Issues

DOE has tentatively identified the following environmental resource areas for consideration in the EIS. This list is neither intended to be all-inclusive nor a predetermined set of potential environmental impacts.

• Air quality

• Greenhouse gas emissions and climate change

• Energy use and production

• Water resources, including groundwater and surface waters

• Wetlands and floodplains

• Geological resources

• Ecological resources, including threatened and endangered species and species of special concern

• Cultural resources, including historic structures and properties; sites of religious and cultural significance to Tribes; and archaeological resources

• Land use

• Visual resources and aesthetics

• Transportation and traffic

• Noise and vibration

• Hazardous materials and solid waste management

• Human health and safety

• Accidents and terrorism

• Socioeconomics, including impacts to community services

• Environmental justice

DOE invites comments on whether the EIS should consider other resource areas or potential issues.

Public Scoping Process

To ensure that all issues related to DOE's proposed action are addressed, DOE seeks public input to define the scope of the EIS. The public scoping period will begin with publication of this Notice of Intent and end on December 14, 2009. Interested government agencies, private-sector organizations, and the general public are encouraged to submit comments concerning the content of the EIS, issues and impacts to be addressed in the EIS, and alternatives that should be considered. Scoping comments should clearly describe specific issues or topics that the EIS should address to assist DOE in identifying significant issues. Comments must be postmarked, or e-mailed by December 14, 2009 to ensure consideration. (See ADDRESSES above). Late comments will be considered to the extent practicable. DOE invites those agencies with jurisdiction by law or special expertise to be cooperating agencies.

A public scoping meeting will be held in the Moss Point area. Further details about the public scoping meeting will be announced at least 15 days prior to the meeting on the DOE Loan Guarantee Program Office Web site (http://www.lgprogram.energy.gov/NEPA-2.html) and in local media in the Moss Point, MS, area. Members of the public and representatives of groups and Federal, state, local, and Tribal agencies are invited to attend. Displays and other forms of information about the proposed agency action, the EIS process, and the Facility will be available, with DOE personnel available for discussions with attendees. DOE requests that anyone who wishes to present oral comments at the meeting contact Dr. Alistair Leslie by phone, or e-mail (see ADDRESSES above). Individuals who do not make advance arrangements to speak may register at the meeting. Speakers who need more than five minutes should indicate the amount of time desired in their request. DOE might need to limit speakers to five minutes initially, but will provide additional opportunities as time permits. Written comments regarding the scoping process can also be submitted to DOE officials at the scoping meeting.

Issued in Washington, DC, on November 4, 2009.
Steve Isakowitz,
Chief Financial Officer, Office of the Chief Financial Officer.

[FR Doc. E9-27165 Filed 11-10-09; 8:45 am]

BILLING CODE 6450-01-P